POSTAL SERVICE

39 CFR Part 20

Global Package Link

AGENCY: Postal Service.

ACTION: Interim rule and request for comment.

SUMMARY: The Postal Service is adopting changes to Global Package Link (GPL) service. Expansion of the service is planned to the European Union (EU) countries as well as expansion to Australia. Rates are being increased 5 percent for existing GPL services with a 15 percent increase to the oversize GPL package service to Japan.

There are several new fees that will be added to GPL. There will be a fee schedule for data exceptions. Customers will be charged when they fail to provide usable data needed to process GPL. In addition, there will be a new fee of $250 per hour for providing assistance in establishing necessary data links with GPL, for assistance in updating its manifesting systems, and for providing harmonization services needed to utilize GPL's Customs Preadvisory System. These new fees for service will allow the customer to access expertise quickly and for a reasonable charge thus making it easier for them to use GPL.

There will also be a new surcharge of $11 per piece when customers fail to meet the requirement of mailing a minimum of 10,000 packages to any combination of GPL destination countries per year. They will also be required to use the premium service where available. Any existing customers that have been using GPL for over a year will be reviewed and also subject to the surcharge if applicable.

EFFECTIVE DATE: The interim rule is effective 12:01 a.m. EST, August 6, 2000. Comments must be received on or before September 7, 2000.

ADDRESSES: Written comments should be mailed or delivered to the Manager, International Business Results, Room 370-IBU, International Business, U.S. Postal Service, Washington, DC 20260-6500. Copies of all written comments will be available for public inspection between 9 a.m. and 4 p.m., Monday through Friday, in International Business, 10th Floor, 901 D Street, SW, Washington, DC.

FOR FURTHER INFORMATION CONTACT: Robert Michelson, (202) 268-5731.

SUPPLEMENTARY INFORMATION: Global Package Link service is an international mail service designed for companies sending merchandise packages to other countries. To use GPL, a customer must send at least 10,000 packages per year of mailing and agree to link its information systems with the Postal Service so that certain information about the contents of the customer's packages can be extracted for operational, customs clearance, and other purposes.

The Postal Service is proposing to add new features to GPL that will enhance its value to customers. The weight and size limits for items sent to Argentina are being increased. The weight limit is increased to 70 pounds from 44 pounds for both premium and standard services. The maximum size is increased to 60 inches in length and 108 inches in length and girth combined.

Service is being extended to Australia. Service to Australia includes premium and standard service. The maximum weight is 66 pounds for both premium and standard services. The maximum size limit for premium items is 36 inches maximum length and a maximum length and girth combined of 79 inches. The maximum size limit for standard items is 42 inches maximum length and a maximum length and girth combined of 79 inches.

The rates for service to Australia are:

Weight not over (pounds) | Premium ($) | Standard ($)
1 | 16.00 | 10.50
2 | 20.00 | 14.00
3 | 24.50 | 18.00
4 | 29.00 | 22.00
5 | 33.00 | 25.50
6 | 37.50 | 29.50
7 | 42.00 | 33.00
8 | 46.00 | 27.00
9 | 50.50 | 40.50
10 | 55.00 | 44.50
11 | 59.00 | 48.50
12 | 61.00 | 50.00
13 | 63.00 | 51.50
14 | 67.00 | 55.00
15 | 71.00 | 58.50
16 | 75.00 | 62.00
17 | 79.00 | 65.50
18 | 83.00 | 69.00
19 | 87.00 | 73.00
20 | 91.00 | 76.50
21 | 95.00 | 80.00
22 | 99.00 | 83.50
23 | 103.00 | 87.00
24 | 107.00 | 90.50
25 | 111.00 | 94.00
26 | 115.00 | 97.50
27 | 119.00 | 101.00
28 | 123.00 | 104.50
29 | 127.00 | 108.00
30 | 131.00 | 111.50
31 | 135.00 | 115.00
32 | 139.00 | 118.50
33 | 143.00 | 122.00
34 | 147.00 | 125.50
35 | 151.00 | 129.00
36 | 155.00 | 132.50
37 | 159.50 | 136.00
38 | 163.50 | 139.50
39 | 167.50 | 143.00
40 | 171.50 | 146.50
41 | 175.50 | 150.50
42 | 179.50 | 153.50
43 | 183.50 | 157.00
44 | 187.50 | 160.50
45 | 191.50 | 164.00
46 | 195.50 | 164.00
47 | 199.50 | 171.00
48 | 203.50 | 178.00
49 | 207.50 | 178.00
50 | 211.50 | 181.50
51 | 215.50 | 185.00
52 | 219.50 | 188.50
53 | 223.50 | 192.00
54 | 227.50 | 195.50
55 | 231.50 | 199.00
56 | 235.50 | 202.50
57 | 239.50 | 206.00
58 | 243.50 | 209.50
59 | 247.50 | 213.00
60 | 251.50 | 216.50
61 | 255.50 | 220.00
62 | 259.50 | 223.50
63 | 263.50 | 227.50
64 | 267.50 | 230.00
65 | 271.50 | 234.00
66 | 275.50 | 237.50

The Postal Service is extending service to all countries in the EU. Under this service, packages will be transported to Great Britain for customs clearance. Once cleared, the packages will be delivered to the other countries in the EU with no further customs clearance required. There are two rate groups. Rate Group 1 includes Ireland, Belgium, The Netherlands, Denmark, France, and Germany. Rate Group 2 includes Luxembourg, Greece, Italy, Portugal, Spain, Austria, Finland, and Sweden. The rates for this service are as follows:

Weight not over (pounds) | Group 1 ($) | Group 2 ($)
1 | 13.25 | 21.50
2 | 15.00 | 23.25
3 | 16.50 | 24.75
4 | 18.00 | 26.25
5 | 19.75 | 28.00
6 | 21.25 | 29.50
7 | 22.75 | 31.00
8 | 24.50 | 32.50
9 | 26.00 | 34.50
10 | 27.50 | 35.75
11 | 29.25 | 37.25
12 | 30.75 | 39.00
13 | 32.25 | 40.50
14 | 34.00 | 42.00
15 | 35.50 | 43.75
16 | 37.00 | 45.25
17 | 38.50 | 46.75
18 | 40.25 | 48.50
19 | 41.25 | 50.00
20 | 43.25 | 51.50
21 | 45.00 | 53.25
22 | 46.50 | 54.75
23 | 48.00 | 56.25
24 | 49.75 | 58.00
25 | 51.25 | 59.50
26 | 52.75 | 61.00
27 | 54.50 | 62.50
28 | 56.00 | 64.25
29 | 57.50 | 65.75
30 | 59.25 | 67.25
31 | 60.75 | 69.00
32 | 62.25 | 70.50
33 | 64.00 | 72.00
34 | 65.50 | 73.75
35 | 67.00 | 75.25
36 | 68.50 | 76.50
37 | 70.25 | 78.50
38 | 71.75 | 80.00
39 | 73.25 | 81.50
40 | 75.00 | 83.25
41 | 76.50 | 84.75
42 | 78.00 | 86.25
43 | 79.75 | 87.75
44 | 81.25 | 89.50
45 | 82.75 | 91.00
46 | 84.50 | 92.50
47 | 86.00 | 84.25
48 | 87.50 | 95.75
49 | 89.25 | 97.25
50 | 90.75 | 99.00
51 | 92.25 | 100.50
52 | 93.75 | 102.00
53 | 95.50 | 103.75
54 | 97.00 | 105.25
55 | 98.50 | 106.75
56 | 100.25 | 108.50
57 | 101.75 | 110.00
58 | 103.25 | 111.50
59 | 105.00 | 113.25
60 | 106.50 | 114.75
61 | 108.00 | 116.75
62 | 111.25 | 117.75
63 | 111.25 | 119.50
64 | 112.75 | 121.00
65 | 114.50 | 122.50
66 | 116.00 | 124.25
67 | 117.50 | 125.75
68 | 119.25 | 127.50
69 | 120.75 | 129.00
70 | 122.25 | 130.50

The rates for oversized packages to Japan are increased 5 percent. These packages, which are too large for delivery by Japanese postal authorities, are tendered to a private delivery firm for delivery. The rates for this service are as follows:

Weight not over (pounds) | Rates ($)
1 | 28.75
2 | 32.25
3 | 36.00
4 | 39.50
5 | 44.25
6 | 49.00
7 | 52.50
8 | 57.25
9 | 60.50
10 | 63.00
11 | 65.50
12 | 68.75
13 | 71.25
14 | 74.00
15 | 76.00
16 | 78.50
17 | 81.25
18 | 83.25
19 | 86.50
20 | 88.50
21 | 90.50
22 | 92.50
23 | 94.75
24 | 96.75
25 | 98.75
26 | 101.00
27 | 103.00
28 | 105.00
29 | 107.25
30 | 108.25
31 | 110.25
32 | 112.50
33 | 114.50
34 | 116.50
35 | 118.50
36 | 120.75
37 | 121.75
38 | 122.75
39 | 126.75
40 | 129.00
41 | 132.00
42 | 135.00
43 | 138.75
44 | 140.00
45 | 143.50
46 | 147.75
47 | 150.00
48 | 152.75
49 | 155.00
50 | 158.00
51 | 161.50
52 | 164.00
53 | 167.50
54 | 169.50
55 | 173.50
56 | 176.25
57 | 178.75
58 | 181.00
59 | 185.50
60 | 187.50
61 | 189.00
62 | 193.75
63 | 196.00
64 | 199.00
65 | 202.50
66 | 208.00
67 | 210.00
68 | 213.75
69 | 216.75
70 | 219.00

The Postal Service is increasing the rates of all existing GPL services by 5 percent. Japan rates are also being announced for parcels weighing up to 66 lbs. Rates for each country are as follows:

The Postal Service is introducing storage and other charges for GPL items tendered when the data required from the mailer is not sent, is incomplete or corrupt, or otherwise cannot be processed due to the mailer's fault. The lack of correct data causes significant operational problems and requires that packages be stored and rehandled. Such storage and rehandling results in additional costs, which are caused by the mailer. The Postal Service will charge fees for modifying corrupt data files sent by the mailer so that the mailer's packages can be processed and delivered. The Postal Service will charge a fee of $.30 per package for storage, $1.50 for each data exception, and $50 for each file modification.

The Postal Service is establishing a new surcharge for customers not mailing at least 10,000 packages per year. If a mailer does not send 10,000 packages, combined volumes to GPL destination countries, in any year of mailing, an $11 per package surcharge will be applied. The mailer will also be required to use only the premium service level. The Postal Service will review a mailer's volume annually after its first complete year of mailing, based on the previous 13 complete accounting periods of mailing. The surcharge will be effective 30 days thereafter. In addition, the Postal Service is invoking the standard for bulk mailings such that GPL mailers will be required to send a minimum of 200 pieces or 50 pounds per mailing.

The Postal Service is revising the customs clearance service procedures to specify information a mailer must or may provide. The existing fee of $1.25 for each item harmonized is being replaced with a new fee structure. Before customs clearance services are initiated, the Postal Service will provide the mailer with a binding proposal stating the number of hours required to complete the service and the total fee for the service calculated on an hourly basis at $250 per hour. In addition, the existing harmonization of 2,500 free items in the first year of using GPL is changed to 2,500 annually. The current fee and customs clearance service causes additional costs to be incurred by the Postal Service and causes uncertainty among mailers in their not knowing the fees they will be charged. The Postal Service is also instituting a fee for assisting mailers in establishing an electronic data interchange or for manifesting GPL packages. Prior to providing such assistance, the Postal Service will provide the mailer with a binding proposal stating the number of hours that will be required to complete the assistance and the total fee for the assistance calculated on an hourly basis at $250 per hour.

Although the Postal Service is exempted by 39 U.S.C. 410(a) from the advance notice requirements of the Administrative Procedure Act regarding proposed rulemaking (5 U.S.C. 553), the Postal Service invites public comment at the above address.

The Postal Service is amending Subchapter 620, “Global Package Link,” and the appropriate Individual Country Listings, International Mail Manual, which are incorporated by reference in the Code of Federal Regulations. See 39 CFR 20.1.

List of Subjects in 39 CFR Part 20

Foreign relations, incorporation by reference, international postal services.

PART 20—[AMENDED]

1. The authority citation for 39 CFR part 20 continues to read as follows:

Authority: 5 U.S.C. 552(a); 39 U.S.C. 401, 404, 407, 408.

2. The International Mail Manual is amended to incorporate program changes to Subchapter 620, “Global Package Link”, as follows:

620 Global Package Link

* * * * *

621.3 Availability

GPL service is available only to Argentina, Australia, Austria, Belgium, Brazil, Canada, Chile, China, Denmark, Finland, France, Germany, Greece, Hong Kong, Ireland, Italy, Japan, Luxembourg, Mexico, The Netherlands, Portugal, Singapore, Spain, Sweden, and Great Britain.

622 Qualifying Mailers

622.1 General

622.11 Qualifications

To qualify for GPL service, a mailer must:

a. Send a minimum of 200 pieces or 50 pounds per mailing.

b. Electronically send required parcel information to the Postal Service.

c. Meet the general and specific preparation requirements for each country.

d. Designate the Postal Service as its carrier of choice to each country for which it uses GPL service.

e. Enter into a service agreement with the Postal Service.

622.12 Service Agreement

Each service agreement must contain the following:

a. If a mailer does not send 10,000 packages, combined volumes to GPL destination countries, in any complete year of mailing, an $11 per package surcharge will be applied as stated in 623.444.

b. The mailer's commitment to provide the required information and a statement of what, if any, optional information it will provide under 626.422.

c. The mailer's intention, if desired, to use the electronic data interchange or manifesting assistance technical support service under 622.23.

622.13 Wholesaler Service Agreements

Each wholesaler must enter into the service agreement for wholesalers.

622.2 Linking Information Systems

622.21 General

The mailer must be able to electronically send parcel information to the Postal Service so that (1) the Postal Service and the mailer can exchange data transmissions concerning the mailer's packages and (2) by scanning the mailer-provided barcode on each package, the Postal Service can extract, on an as-needed basis, the following information about the contents of each package to produce necessary customs forms and package labels and to provide tracking and tracing:

a. Order number.

b. Package identification number.

c. Delivery option used for package if more than one level of service is available.

d. Buyer's name and address.

e. Recipient's name, address, and post code.

f. Total weight of package.

g. Total value of the package's contents.

h. Total number of items in each package.

i. Numbers of each item in package.

j. SKU or key word description of each item.

k. Value of each item.

l. Country of origin of each item (for mailings to Germany and France, unless mailed using Global Package Link-Europe, and Canada, Mexico, Argentina, Brazil, Chile, Australia, China, Hong Kong, and Singapore).

m. Buyer's national identification or import number, where required by law (Brazil, Mexico).

n. Postage and handling charge per order.

o. Buyer's telephone number at delivery address (required for Mexico only).

622.22 Fees for Exceptions

If the mailer does not meet the requirements in 622.21 such that when its packages are processed at a GPL processing facility and it has failed to transmit package data or the data is not complete or is corrupt or otherwise prevents the Postal Service from processing packages, the Postal Service will charge the following fees for modifying corrupt data files sent by the mailer so that the mailer's packages can be processed and delivered:

Data exception | Fees
Individual package lacks data to process | $.30 per package for storage, per calendar day, for every package that the Postal Service is unable to process.
| Plus
| $1.50 per data exception scan.
No data file sent by the mailer | $.30 per package for storage, per calendar day, for every package listed in the postage statement for that mailing.
File sent by the mailer is corrupted | $50.00 per file modification.
| Plus
| $.30 per package for storage, per calendar day, for every package listed in the postage statement for that mailing.

If data exceptions cannot be resolved within 5 business days, the associated packages will be returned to the mailer at a rate of $5 per package. These fees will be deducted from the mailer's CAPS account, and the Postal Service will send the mailer a monthly notice of these charges.

* * * * *

622.23 Payment of Fees for Technical Support Services for Electronic Data Interchange Linkage and Manifesting

622.231. The Postal Service will provide, at no cost to the mailer, general technical advice to assist the mailer in establishing electronic data interchange links required in 622.21 and documentation and manifesting required in 623.43.

622.232. The Postal Service will provide the mailer, if desired, specific technical advice including but not limited to technical direction and support to establish such links or manifesting system changes in accordance with a binding written proposal prior to commencing with the technical support services. The proposal will state the number of hours needed to provide the technical support at the rate of $250 per hour. The Postal Service will charge the amount stated in the proposal, unless the mailer materially changes the nature and scope of the technical support provided.

622.233. The mailer will pay the Postal Service for such technical support in the manner and the time agreed to by the mailer in the GPL Service Agreement.

* * * * *

623 General

* * * * *

623.2 Customs Documentation

Customs documentation will be produced by the Postal Service from data transmitted by the mailer.

623.3 Size and Weight Limits

623.31 Weight

The weight limits for GPL service are 70 pounds for Argentina, Chile, China, and Germany; 66 pounds for Australia, Brazil, Canada, Japan, Singapore, Great Britain, and countries in the EU; 64 pounds for Mexico; 55 pounds for France; and 44 pounds for Hong Kong. Oversize service is available to Japan. To use the GPL premium oversize service, the mailer must select it when choosing the class of service and use the corresponding GPL premium oversize rate chart.

623.32 Size

All GPL packages must be large enough to accommodate the necessary labels and customs forms on the address side. The maximum length of GPL packages is 60 inches. The maximum length and girth combined is 108 inches.

GPL premium packages to Japan, with the length more than 60 inches, up to a maximum length plus girth of 108 inches, must be mailed as GPL premium oversize. To use the GPL premium oversize service, the mailer must select GPL premium oversize service when selecting the class of service and use the corresponding GPL premium oversize rate chart. GPL premium packages longer than 60 inches, up to length plus girth of 108 inches, will be returned to the mailer for remailing if GPL premium oversize service is not selected.

Exceptions: Maximum size for Germany is length 47 inches, height 23 inches, and width 23 inches; for Japan standard packages weighing less than 1 pound, the maximum length is 24 inches with a combined maximum length, depth, and height of 36 inches; maximum size for Australia for premium items is 36 inches maximum length and a maximum length and girth combined of 79 inches and for standard items is 42 inches maximum length and a maximum length and girth combined of 79 inches.

* * * * *

623.4 Postage

* * * * *

623.444 Surcharge

If a mailer does not send 10,000 packages of combined volumes to GPL destination countries in any year of mailing, an $11 per package surcharge will be applied. The mailer must use the premium level of service for all packages in any year it does not mail 10,000 GPL packages. The Postal Service will review a mailer's volume annually after its first complete year of mailing, based on the previous 13 complete accounting periods of mailing. The surcharge will be effective 30 days thereafter.

626 Services Available

626.1 Delivery Options

Delivery options vary according to destination country, as set forth below.

626.11 Premium Service

Premium service is available to all countries except France and countries in the EU. Packages sent through premium service are transported to the destination country by air where they receive special handling and expedited delivery. The mailer can track premium service packages through the GPL website as well as reports of delivery performance furnished to the mailer in the formats and at the frequencies agreed upon by the Postal Service and the mailer.

626.12 Standard Service

Standard service is available to Argentina, Australia, Canada, France, Japan, Mexico, Singapore, and Great Britain. Packages sent through standard service are transported to the destination country by air (or a combination of air/ground to Canada) for delivery. The mailer can track standard service packages through dispatch from the GPL processing facility for Japan and through delivery for Great Britain, Singapore, and Canada. In Mexico, standard service provides for customer pick up of parcels at selected secured customer service centers with tracking to pick up.

* * * * *

626.2 Merchandise Return Service

626.21 Japan

Merchandise return service is available from Japan. The mailer or the recipient is responsible for returning merchandise to the designated Japanese return center where packages will be opened and the contents consolidated for return to the United States. The mailer will receive a daily electronic notification of returns. Returned merchandise will be shipped to the mailer on a mutually agreed-upon schedule.

626.211 Merchandise Return Reply Service

The mailer may use merchandise return reply service (MRRS) to pay the postage of its customers' return of merchandise to the return center in Japan. For each package using MRRS, the mailer will be charged the postage for getting the package from the customer to the return center and a handling fee of $1.50.

* * * * *

626.22 Great Britain and the European Union

A return merchandise service is available to mailers that mail GPL shipments to Great Britain and the EU. The returns agent will open and inspect the contents of each box and process for return to the United States. The returns agent may apply for a refund of duties and taxes from Great Britain customs. The packages will then be sent to the mailer's designated center for returns in the United States. The return prices per parcel are detailed in the GPL rate charts in the Individual Country Listings.

* * * * *

626.3 Insurance and Indemnity

* * * * *

626.322 Mexico, Great Britain, and Countries in the EU

Packages sent through standard service to Mexico, Great Britain, and countries in the EU are insured against loss, damage, or rifling at no additional cost. Indemnity payments are subject to the provisions of DMM S500. Standard service packages are not insured against delay in delivery. Neither indemnity payments nor postage refunds will be made in the event of delay.

* * * * *

626.4 Customs

626.41 Customs Forms

All necessary customs forms are automatically generated by the Postal Service's GPL computer system. The Postal Service will print the necessary customs forms and affix them to the mailer's packages after it scans the mailer-printed barcode on each package and correlates the barcode with the package-specific information transmitted electronically.

626.42 Customs Clearance

The customs preadvisory system (CPAS) electronically collects package-specific data to facilitate customs requirements in the destination country. For all destination countries except China, Japan, Hong Kong, and Singapore, CPAS electronically advises agents in the destination country of the contents of each package and determines the duties and taxes for each item in the package. Recipients of merchandise must designate the Postal Service and its agents as the recipients' agents for customs clearance.

626.421 Customs Clearance Services

CPAS determines the applicable duties and taxes due in each destination country for each item based upon the international Harmonization Tariff Schedule (HTS) code assigned to each item mailed in a package. The Postal Service will provide the destination country customs agency with the HTS codes and applicable duties and taxes for each item.

626.422 Information Provided by the Mailer

Prior to the first mailing, the mailer must provide to the Postal Service the following required information electronically (preferred) or printed copy and may provide the following optional information concerning the merchandise it will be sending:

a. Required information:

1. SKU and product name and description.

2. Country of origin of each item (required for all countries except Japan and GPL-EU countries).

3. Product composition and characteristics.

4. Catalog or product information sheets.

b. Optional information:

1. Existing full or partial HTS code for each item.

2. Customs description of each item.

3. The number of SKU items to be assessed duties and taxes.

4. Digitized pictures (for Europe).

5. Country of origin of each item for Japan and GPL-EU countries.

626.423 Payment of Customs Clearance Services Fees

a. In each calendar year, the Postal Service will assign, at no cost to the mailer, the HTS code and applicable duties and taxes for 2,500 items. For all additional items, the Postal Service will charge the mailer for this service in accordance with a binding written proposal provided to the mailer prior to commencing the customs clearance service. The Postal Service will base its estimate upon whether and to what extent the mailer provides the required and optional information in 626.422. The proposal will state the number of hours needed to complete the customs clearance service process before the first mailing. The Postal Service will charge the amount in the proposal unless the mailer fails to provide the information it promised or the number of items assessed duties and taxes differs from the number estimated by the mailer. In that event, the Postal Service will charge the mailer for the number of hours needed to complete the customs clearance process at the rate of $250 per hour.

b. If the customs clearance process has not been previously completed prior to a mailing, the Postal Service will provide one hour of customs clearance services each month at no additional charge. If the customs clearance process for such items takes more than one hour per month and the Postal Service has completed the process for more than 2,500 items, the Postal Service will charge the mailer for the number of hours needed to complete the customs clearance process at the rate of $250 per hour.

c. The mailer will pay the Postal Service for these services in a manner and within the time agreed to by the Postal Service and the mailer in the GPL Service Agreement.

626.43 Payment of Customs Duty

626.431 All Countries Except China, Japan, Hong Kong, and Singapore

For all countries except China, Japan, Hong Kong, and Singapore, the Postal Service will arrange payment of customs duty on behalf of the recipient at the time the merchandise enters the country of destination. Any banking costs or foreign exchange fees applicable to the customs payments will be charged to the mailer. The Postal Service will notify the mailer electronically of the amount of duty and fees paid, and the mailer will reimburse the Postal Service in a manner and within a time agreed between the mailer and the Postal Service. Because of the need to have funds available for customs at the time of clearance in Brazil, Chile, and Mexico, mailers must make an advance deposit prior to the first mailing to cover anticipated duties and taxes in addition to postage. For subsequent mailings, this account must be replenished by the mailer after the actual amount of duties and taxes are assessed. The mailer is responsible for collecting duties and taxes from the recipient. (This can be done when payment for the order is made.) For Mexico, GPL mailers will pay customs the day after the shipments arrive in customs, through a preauthorized automated clearinghouse debit program (ACH). GPL mailers must agree to allow the Postal Service to debit their designated bank account through the ACH debit program to pay these charges.

626.432 China, Japan, Hong Kong, and Singapore

In China, Japan, Hong Kong, and Singapore any customs duties and fees will be collected from the recipient at the time of delivery.

Stanley F. Mires,
Chief Counsel, Legislative.

[FR Doc. 00-18075 Filed 7-17-00; 8:45 am]

BILLING CODE 7710-12-P